DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before August 17, 2010.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC, or at http://www.regulations.gov.

This notice of receipt of applications for modification of special permit is published in accordance with Part 107 of the Federal hazardous materials transportation law (49 U.S.C. 5117(b); 49 CFR 1.53(b)).

Issued in Washington, DC, on July 23, 2010.
Ryan Paquet,
Acting Director, Office of Hazardous Materials, Special Permits and Approvals.

Application No. | Docket No. | Applicant | Regulation(s) affected | Nature of special permit thereof
MODIFICATION SPECIAL PERMITS
11077-M |  | Department of Defense, Scott AFB, IL | 49 CFR 173.226(b); 173.227(b) | To modify the special permit by removing one Division 6.1 hazardous materials and adding an additional Division 6.1 hazardous material.
12783-M |  | CryoSurgery, Inc., Nashville, TN | 49 CFR 173.304a(a) (1); 173.306(a) | To modify the special permit to authorize additional Division 2.2 hazardous materials.
13327-M |  | HAWK Corporation, Ardmore, OK | 49 CFR 172.101, B15 | To modify the special permit to allow manways manufactured under this special permit to be installed on fiberglass cargo tanks manufactured under the terms of other special permits.
14469-M |  | Space Systems/Loral, Palo Alto, CA | 49 CFR 172.101 column (9B) | To modify the special permit to add ammonium hydroxide.
14844-M |  | Northern Air Cargo, Anchorage, AK | 49 CFR 173.302(f) | To reissue the special permit orginally issued on an emergency basis authorizing the transportation in commerce of compressed oxygen without rigid outer packaging when no other means of transportation exist.
14860-M |  | Alaska Airlines, Seattle, WA | 49 CFR 173.302(f) | To reissue the permit originally issued on an emergency basis authorizing the transportation in commerce of compressed oxygen without rigid outer packaging when no other means of transportation exist.
14903-M |  | Hageland Aviation Services, Anchorage, AK | 49 CFR 173.302(f) | To reissue the special permit originally issued on an emergency basis authorizing the transportation in commerce of compressed oxygen without rigid outer packaging when no other means of transportation exist.
14905-M |  | Frontier Flying Services, Inc., Fairbanks, AK | 49 CFR 173.302(1) | To reissue the special permit originally issued on an emergency basis authorizing the transportation in commerce of compressed oxygen without rigid outer packaging when no other means of transportation exist.
14906-M |  | Ryan Air, Inc. (Former Grantee: Arctic Transportation Services), Anchorage, AK | 49 CFR 173.302(f) | To reissue the special permit originally issued on an emergency basis authorizing the transportation in commerce of compressed oxygen without rigid outer packaging when no other means of transportation exist.
14907-M |  | Conocophillips Alaska, Inc., Anchorage, AK | 49 CFR 172.101 Column (9B) | To reissue the special permit originally issued on an emergency basis authorizing the transportation in commerce of compressed oxygen without rigid outer packaging when no other means of transportation exist.
14909-M |  | Lake Clark Air, Inc., Port Alsworth, AK | 49 CFR 173.304(f) | To reissue the special permit originally issued on an emergency basis authorizing the transportation in commerce of compressed oxygen without rigid outer packaging when no other means of transportation exist.
14926-M |  | Lynden Air Cargo, Anchorage, AK | 49 CFR 173.302(f) | To reissue the special permit originally issued on an emergency basis authorizing the transportation in commerce of compressed oxygen without rigid outer packaging when no other means of transportation exist.
14927-M |  | Era Aviation, Inc., Anchorage, AK | 49 CFR 173.302(f) | To reissue the special permit originally issued on an emergency basis authorizing the transportation in commerce of compressed oxygen without rigid outer packaging when no other means of transportation exist.
14931-M |  | Tucker Aviation Inc., Dillingham, AK | 49 CFR 173.302(f) | To reissue the special permit originally issued on an emergency basis authorizing the transportation in commerce of compressed oxygen without rigid outer packaging when no other means of transportation exist.

[FR Doc. 2010-18711 Filed 7-30-10; 8:45 am]

BILLING CODE 4909-60-M